COMMISSION ON CIVIL RIGHTS

Sunshine Act Notice

AGENCY: United States Commission on Civil Rights.

ACTION: Notice of meeting.

Date and Time: Thursday, August 2, 2007; 6 p.m.

Place: Via Teleconference.

Public Call In Number: 1-800-597-7623.

Meeting Agenda

I. Approval of Agenda.

II. Approval of Minutes of July 13, Meeting.

III. Announcements.

IV. Staff Director's Report.

V. Program Planning.

• FY 2007 Statutory Report.

VI. Future Agenda Items.

VII. Adjourn.

CONTACT PERSON FOR FURTHER INFORMATION: Manuel Alba, Press and Communications, (202) 376-8582.

Dated: July 23, 2007.
David Blackwood,
General Counsel.

[FR Doc. 07-3663 Filed 7-23-07; 3:21 pm]

BILLING CODE 6335-01-P